DEPARTMENT OF TRANSPORTATION

Federal Aviation Administration

Notice of Intent To Release Certain Properties From Certain Terms, Conditions, Reservations and Restrictions of a Quitclaim Deed Agreement Between the Hillsborough County Aviation Authority and the Federal Aviation Administration for the Tampa International Airport, Tampa, FL

AGENCY: Federal Aviation Administration (FAA), DOT.

ACTION: Request for public comment.

SUMMARY: The FAA hereby provides notice of intent to release certain airport properties 5.88 acres at the Tampa International Airport, Tampa, FL from certain conditions, reservations, and restrictions as contained in a Quitclaim Deed agreement between the FAA and the Hillsborough County Aviation Authority, dated November 5, 1947. The release of property will allow the Hillsborough County Aviation Authority to use property for other than aeronautical purposes. The property is located in the southeast quadrant of Tampa International Airport property, Hillsborough County, Florida. The parcel is currently designated as aeronautical use. The property will be used for nonaeronautical use/revenue generation. The fair market value of the property has been determined by appraisal to be $2,690,000. The airport will receive at least fair market rental value for the property. Documents reflecting the Sponsor's request are available, by appointment only, for inspection at the Tampa International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for nonaeronautical purposes.

DATES: Comments are due on or before June 16, 2010.

ADDRESSES: Documents are available for review at the Tampa International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

W. Dean Stringer,
Manager, Orlando Airports District Office, Southern Region.

[FR Doc. 2010-11718 Filed 5-14-10; 8:45 am]

BILLING CODE 4910-13-P